DEPARTMENT OF DEFENSE

Office of the Secretary

Reserve Forces Policy Board (RFPB); Cancellation of Committee Meeting

AGENCY: Office of the Secretary of Defense Reserve Forces Policy Board, DoD.

ACTION: Notice of Cancellation of Committee Meeting.

SUMMARY: The meeting of the Reserve Forces Policy Board, scheduled for Tuesday and Wednesday, January 25th and 26th, 2011, was cancelled. The meeting was announced in the Federal Register on December 8, 2010 (Volume 75, No. 235) FR (76423). The purpose of the meeting was an open meeting of the Reserve Forces Policy Board. The meeting was canceled due to the less than required number of attendees required to hold the meeting.

FOR FURTHER INFORMATION CONTACT: Lt Col Julie A. Small, Designated Federal Officer, (703) 697-4486 (Voice), (703) 693-5371 (Facsimile), RFPB@osd.mil. Mailing address is Reserve Forces Policy Board, 7300 Defense Pentagon, Washington, DC 20301-7300. Web site: http://ra.defense.gov/rfpb/.

Dated: January 25, 2011.
Morgan F. Park,
Alternate OSD Federal Register Liaison Officer, Department of Defense.

[FR Doc. 2011-1948 Filed 1-28-11; 8:45 am]

BILLING CODE 5001-06-P